DEPARTMENT OF ENERGY

Federal Energy Regulatory Commission

Combined Notice of Filings #1

December 17, 2009.

Take notice that the Commission received the following electric corporate filings:

Docket Numbers: EC10-29-000.

Applicants: Astoria Energy LLC.

Description: Joint application for authorization under Section 203 of the Federal Power Act and Request for Expedited and Privileged Treatment re Astoria Energy LLC et al.

Filed Date: 12/10/2009.

Accession Number: 20091214-0145.

Comment Date: 5 p.m. Eastern Time on Thursday, December 31, 2009.

Take notice that the Commission received the following exempt wholesale generator filings:

Docket Numbers: EG10-13-000.

Applicants: Stetson Wind II, LLC.

Description: EWG Self Certification Notice of Stetson Wind II, LLC.

Filed Date: 12/17/2009.

Accession Number: 20091217-5013.

Comment Date: 5 p.m. Eastern Time on Thursday, January 07, 2010.

Take notice that the Commission received the following electric rate filings:

Docket Numbers: ER10-346-002.

Applicants: Calvert Cliffs Nuclear Power Plant LLC.

Description: Constellation Energy Nuclear Group, LLC submits revised sheets to replace the tariff sheets submitted with the November Notice Filing.

Filed Date: 12/15/2009.

Accession Number: 20091216-0056.

Comment Date: 5 p.m. Eastern Time on Tuesday, January 05, 2010.

Docket Numbers: ER10-139-002.

Applicants: Atlantic Path 15, LLC.

Description: Atlantic Path 15, LLC submits Second Substitute Fifth Revised Sheet No. 16 to FERC Electric Tariff First Revised Volume No. 1.

Filed Date: 12/14/2009.

Accession Number: 20091215-0046.

Comment Date: 5 p.m. Eastern Time on Monday, January 04, 2010.

Docket Numbers: ER10-41-001.

Applicants: NorthWestern Corporation.

Description: NorthWestern Corporation, South Dakota submits an executed Electric Service Agreement Emergency-Type Service with East River Electric Power Cooperative, Inc. etc.

Filed Date: 12/14/2009.

Accession Number: 20091215-0038.

Comment Date: 5 p.m. Eastern Time on Monday, January 04, 2010.

Docket Numbers: ER10-210-001.

Applicants: Viridian Energy PA LLC.

Description: Viridian Energy PA LLC submits the Petition for Acceptance of Initial Rate Schedule, Waivers and Blanket Authority.

Filed Date: 12/16/2009.

Accession Number: 20091216-0122.

Comment Date: 5 p.m. Eastern Time on Wednesday, January 06, 2010.

Docket Numbers: ER10-422-000.

Applicants: Southern California Edison Company.

Description: Southern California Edison Company submits Large Generator Interconnection Agreement among Coso power Developers etc.

Filed Date: 12/15/2009.

Accession Number: 20091216-0053.

Comment Date: 5 p.m. Eastern Time on Tuesday, January 05, 2010.

Docket Numbers: ER10-423-000.

Applicants: ISO New England Inc.; New England Power Pool.

Description: ISO New England Inc et al. submits transmittal letter describing a minor revision to the ISO Financial Assurance Policy.

Filed Date: 12/15/2009.

Accession Number: 20091216-0054.

Comment Date: 5 p.m. Eastern Time on Tuesday, January 05, 2010.

Docket Numbers: ER10-424-000.

Applicants: New York Independent System Operator, Inc.

Description: Request of the New York Independent System Operator, Inc. for Additional Waivers of Open Access Time Information System Regulations.

Filed Date: 12/15/2009.

Accession Number: 20091215-5137.

Comment Date: 5 p.m. Eastern Time on Tuesday, January 05, 2010.

Docket Numbers: ER10-427-000.

Applicants: EPCOR Merchant and Capital (US) Inc.

Description: EPCOR Merchant and Capital (US), Inc. submits a Notice of Cancellation to its market-based rate tariff.

Filed Date: 12/15/2009.

Accession Number: 20091216-0127.

Comment Date: 5 p.m. Eastern Time on Tuesday, January 05, 2010.

Docket Numbers: ER10-428-000.

Applicants: Wisconsin Electric Power Company.

Description: Wisconsin Electric Power Co submits the Notice of Cancellation of Interchange Agreement.

Filed Date: 12/15/2009.

Accession Number: 20091216-0128.

Comment Date: 5 p.m. Eastern Time on Tuesday, January 05, 2010.

Docket Numbers: ER10-429-000.

Applicants: Wisconsin Electric Power Company.

Description: Wisconsin Electric Power Co submits the Notice of Cancellation of Interchange Agreement.

Filed Date: 12/15/2009.

Accession Number: 20091216-0129.

Comment Date: 5 p.m. Eastern Time on Tuesday, January 05, 2010.

Docket Numbers: ER10-430-000.

Applicants: Wisconsin Electric Power Company.

Description: Wisconsin Electric Power Co submits the Notice of Cancellation of Interchange Agreement.

Filed Date: 12/15/2009.

Accession Number: 20091216-0130.

Comment Date: 5 p.m. Eastern Time on Tuesday, January 05, 2010.

Docket Numbers: ER10-431-000.

Applicants: Upper Peninsula Power Company.

Description: Upper Peninsula Power Co submits the Notice of Cancellation of Rate Schedule.

Filed Date: 12/16/2009.

Accession Number: 20091216-0131.

Comment Date: 5 p.m. Eastern Time on Wednesday, January 06, 2010.

Docket Numbers: ER10-432-000.

Applicants: NorthWestern Corporation.

Description: NorthWestern Corporation submits the Interconnection Agreement for Electric Interconnection Services.

Filed Date: 12/16/2009.

Accession Number: 20091216-0132.

Comment Date: 5 p.m. Eastern Time on Wednesday, January 06, 2010.

Take notice that the Commission received the following electric securities filings:

Docket Numbers: ES10-17-000.

Applicants: South Carolina Electric & Gas Company, South Carolina Generating Company, Inc.

Description: Application of South Carolina Electric & Gas Company and South Carolina Generating Company, Inc.

Filed Date: 12/16/2009.

Accession Number: 20091216-5112.

Comment Date: 5 p.m. Eastern Time on Wednesday, January 06, 2010.

Take notice that the Commission received the following electric reliability filings:

Docket Numbers: RR09-9-001; RR08-6-005; RR07-14-005.

Applicants: North American Electric Reliability Corporation.

Description: Compliance Filing of the North American Electric Reliability Corporation in Response to October 15, 2009 Order on 2010 Business Plans and Budgets.

Filed Date: 12/11/2009.

Accession Number: 20091211-5182.

Comment Date: 5 p.m. Eastern Time on Monday, January 11, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-30582 Filed 12-23-09; 8:45 am]

BILLING CODE 6717-01-P